DEPARTMENT OF HEALTH AND HUMAN SERVICES

Administration for Children and Families

Submission for OMB Review; Comment Request

Title: ACF-IV-E-1 Foster Care and Adoption Assistance Financial Reporting Form.

OMB No.: 0970-0205.

Description: State agencies administer the Foster Care and Adoption Assistance Programs under Title IV-E of the Social Security Act. The Administration for Children and Families provides Federal funding at the rate of 50 percent for most of the administrative costs and at other rates for other specific categories of costs as detailed in Federal statutes and regulations. This form is submitted quarterly by each State to estimate the funding needs for the upcoming fiscal quarter and to report expenditures for the fiscal quarter just ended. The information collected in this report is used by this agency to calculate quarterly Federal grant awards and to enable oversight of the financial management of the programs.

Part 3 of this form had also been used to collect semiannual budget projections. In response to the publication of the Federal Register Notice on October 10, 2008, comments from the ACF budget office indicated that this information is now available from other sources and the information previously collected on Part 3 is no longer needed. We are, therefore, deleting Part 3 of this form.

Respondents: State agencies (including the District of Columbia and Puerto Rico) administering the Foster Care and Adoption Assistance programs under Title IV-E of the Social Security Act.

ANNUAL BURDEN ESTIMATES
Instrument | Number of respondents | Number of responses per respondent | Average burden hours per response | Total burden hours
Form ACF-IV-E-1 | 52 | 41 | 6 | 3,328

Estimated Total Annual Burden Hours: 3,328.

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: January 13, 2009.
Janean Chambers,
Reports Clearance Officer.

[FR Doc. E9-953 Filed 1-16-09; 8:45 am]

BILLING CODE 4184-01-P